DEPARTMENT OF STATE

[Public Notice: 12024]

Notice of Charter Renewal for the Shipping Coordinating Committee

The official designation of this advisory committee is the Shipping Coordinating Committee, hereinafter referred to as “the Committee.”

The Committee is established under the general authority of the Secretary of State and the Department of State (“the Department”) as set forth in title 22 of the United States Code, in particular section 2656 of that title, and consistent with the Federal Advisory Committee Act, as amended (5 U.S.C. 1001 et seq.). The approval of this Charter by the Under Secretary of State for Management constitutes a determination by the Secretary of State that this Committee Charter is in the public interest in connection with the performance of duties of the Department.

In accordance with Public Law 92-463, section 14, it has been formally determined to be in the public interest to continue the Charter for another two years. The Charter was filed on March 16, 2023.

For further information about the Committee, please contact Emily A. Rose, Executive Secretary, Shipping Coordinating Committee, U.S. Department of State, Office of Ocean and Polar Affairs, at RoseEA@state.gov or by telephone at (202) 647-3946.

Emily A. Rose,
Executive Secretary, Shipping Coordinating Committee, U.S. Department of State.

[FR Doc. 2023-06259 Filed 3-24-23; 8:45 am]

BILLING CODE 4710-09-P